DEPARTMENT OF TRANSPORTATION

Federal Aviation Administration

Notice of Intent to Rule on Application 00-03-C-00-AVP to Impose and Use the Revenue From a Passenger Facility Charge (PEC) at, Wilkes-Barre/Scranton, Pennsylvania

AGENCY: Federal Aviation Administration (FAA), DOT.

ACTION: Notice of intent to rule on application.

SUMMARY: The FAA proposes to rule and invites public comment on the application to impose and use the revenue from a PFC at Wilkes-Barre/Scranton International Airport under the provisions of the Aviation Safety and Capacity Expansion Act of 1990 (Title IX of the Omnibus Budget Reconciliation Act of 1990) (Public Law 101-508) and Part 158 of the Federal Aviation Regulations (14 CFR Part 158).

DATES: Comments must be received on or before October 25, 2000.

ADDRESSES: Comments on this application may be mailed or delivered in triplicate to the FAA at the following address: Mr. Oscar Sanchez, Project Manager, Harrisburg Airports District Office, 3911 Hartzdale Dr., suite 1100, Camp Hill, PA 17011.

In addition, one copy of any comments submitted to the FAA must be mailed or delivered to Mr. Barry Centini, Airport Director of the Luzerne and Lackawanna Counties By-County Board of Commissioners at the following address: Wilkes-Barre/Scranton International Airport, Avoca, Pennsylvania 18641.

Air carriers and foreign air carriers may submit copies of written comments previously provided to the Luzerne and Lackawanna Counties By-County Board of Commissioners under section 158.23 of Part 158.

FOR FURTHER INFORMATION CONTACT: Mr. Oscar Sanchez, Program Manager, Harrisburg Airports District Office, 3911 Hartzdale Dr., suite 1100 Camp Hill, PA 17011, (717) 730-2834. The application may be reviewed in person at this same location.

SUPPLEMENTARY INFORMATION: The FAA proposes to rule and invites public comment on the application to impose and use the revenue from a PFC at Wilkes-Barre/Scranton International Airport under the provisions of the Aviation Safety and Capacity Expansion Act of 1990 (Title IX of the Omnibus Budget Reconciliation Act of 1990) (Public Law 101-508) and Part 158 of the Federal Aviation Regulations (14 CFR Part 158).

On August 28, 2000, the FAA determined that the application to impose and use the revenue from a PFC submitted by the Luzerne and Lackawanna Counties By-County Board of Commissioners was substantially complete within the requirements of section 158.25 of Part 158. The FAA will approve or disapprove the application, in while or in part, no later than Nov. 23, 2000. The following is a brief overview of the application.

PFC Application No.: 00-03-C-00-AVP.

Level of the proposed PFC: $4.50.

Proposed charge effective date: January 1, 2001.

Proposed charge expiration date: July 31, 2010.

Total estimated PFC revenue: $10,794,855.

Brief description of proposed project(s):

• Construct New Passenger Terminal Facility

• Construction Access Roadways and Non-Revenue Surface Parking

• Construction Terminal Aircraft Parking Apron

• Architect/Engineering Inspection and Contingency Fees

• Construct Snow Removal Equipment Storage/Maintenance Building

• Airport Master Plan Update

• Design/Construct Perimeter Fence

• Design Runway Safety Areas

• Design/Reconstruct General Aviation ramp

• Purchase Snow Removal Equipment (Three plows/spreaders)

Class or classes of air carriers which the public agency has requested not be required to collect PFCs: Non-Scheduled/On-Demand Air Carriers, with seating capacity of less than 20 seats, filing DOT Form 1800-31.

Any person may inspect the application in person at the FAA office listed above under FOR FURTHER INFORMATION CONTACT and at the FAA regional airports office located at: 1 Aviation Plaza, Jamaica, New York 11434-4809.

In addition, any person may, upon request, inspect the application, notice and other documents germane to the application in person at the Luzerne and Lackawanna Counties By-County Board of Commissioners.

Issued in New York City, New York on August 28, 2000.
Thomas Felix,
Manager, Planning and Programming Branch, Eastern Region

[FR Doc. 00-24492 Filed 9-22-00; 8:45 am]

BILLING CODE 4910-13-M